DEPARTMENT OF JUSTICE

Notice of Lodging of Consent Decree Under the Clean Air Act

In accordance with 28 U.S.C. 50.7, notice is hereby given that on September 30, 2003, a proposed Consent Decree in United States v. CHS Inc., Civil Action No. CV:03-153-BLG-RWA, was lodged with the United States District Court for Montana.

In this action, the United States sought injunctive relief and penalties against CHS Inc. (“Cenex”), pursuant to Section 113(b) of the Clean Air Act (“CAA”), 42 U.S.C. 7413(b) (1983), amended by, 42 U.S.C. 7413(b) (Supp. 1991) for alleged CAA violations at Cenex's refinery in Laurel, Montana in a complaint that was filed simultaneously with the Consent Decree.

The proposed Consent Decree requires Cenex to implement innovative pollution control technologies to greatly reduce emissions of nitrogen oxides (“NOX”) and sulfur dioxide (“SO2”) from refinery process units and adopt facility-wide enhanced monitoring and fugitive emission control programs. In addition, Cenex will pay a civil penalty of $85,937.50 for settlement of the claims in the United States' complaint, and Cenex will pay $85,937.50 for settlement of claims raised by the State of Montana. Cenex also will perform environmentally beneficial projects. The State of Montana will join in this settlement as a signatory of the Consent Decree.

The Department of Justice will receive for a period of thirty (30) days from the date of this publication comments relating to the Consent Decree. Comments should be addressed to the Assistant Attorney General, Environment and Natural Resources Division, P.O. Box 7611, U.S. Department of Justice, Washington, D.C. 20044-7611, and should refer to United States, et al., v. CHS Inc., D.J. Ref. 90-5-2-1-07726.

The Consent Decree may be examined at the Office of the United States Attorney, 2929 3rd Ave North, Suite 400, Billings, MT 59101 (attn: Lorraine Gallinger), and at U.S. EPA Region 8, 999 18th Street Suite 300, Denver, CO 80202-2466 (attn: David Rochlin). During the public comment period, the Consent Decree, may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleet@woodusdoj.gov), fax no. (202) 514-0097, phone confirmation number (202) 514-1547. In requesting a copy of the Consent Decree from the Consent Decree Library, please enclose a check in the amount of $40.25 (25 cents per page reproduction cost) payable to the U.S. Treasury.

Robert D. Brook,
Assistant Section Chief, Environmental Enforcement Section, Environment and Natural Resources Division.

[FR Doc. 03-25551 Filed 10-7-03; 8:45 am]

BILLING CODE 4410-15-M